DEPARTMENT OF THE INTERIOR

Bureau of Land Management

[ID310-1430-EU 252R, IDI-34375/34376]

Notice of Realty Action; Proposed Direct Sale of Public Lands; Jefferson County, ID

AGENCY: Bureau of Land Management, Interior.

ACTION: Notice of Realty Action.

SUMMARY: Notice is hereby given that the BLM has amended the Idaho Falls District's Medicine Lodge Resource Management Plan (RMP) to allow for the direct sale of 5.81 acres of public land in Jefferson County, Idaho to Byron and Teresa Blakely.

DATES: Comments regarding the proposed direct sale must be received within 45 days of publication of this notice in the Federal Register.

ADDRESSES: Written comments should be sent to Carol McCoy Brown, Field Manager, Upper Snake Field Office, 1405 Hollipark Drive, Idaho Falls, ID, 83401.

FOR FURTHER INFORMATION CONTACT: Skip Staffel, Realty Specialist, at the above address or by calling (208) 524-7562.

SUPPLEMENTARY INFORMATION: The following described lands have been examined and through the BLM land use planning process have been determined to be suitable for direct sale pursuant to Section 203 of the Federal Land Policy and Management Act of 1976 (FLPMA) (43 U.S.C. 1716). The parcel would be offered for direct sale at fair market value.

Boise Meridian, Idaho

T. 4 N., R. 40 E.,

Sec. 24, lot 18.

The area described contains approximately 5.81 acres.

The purpose of the direct sale of public land is to resolve litigation entitled United States v. Byron Blakely and Teresa Blakely (Civ. 99-339-E-BLW). The land patent, when issued, will reserve in perpetuity to the United States a conservation easement to prevent development or use of the described parcel that detracts from the conservation values of the property, which are to protect the ecological integrity of the South Fork of the Snake River, and natural habitat for wildlife, fish, and plants.

Publication of this notice in the Federal Register shall segregate the above described public lands from appropriation under the public land laws, including the general mining laws, except for the sale provisions of FLPMA. The segregative effect of this notice will terminate upon issuance of patent, 270 days from the date of this publication, or in accordance with a notice of termination published in the Federal Register, whichever occurs first.

The appraisal report, planning document, and environmental analysis covering the proposed direct sale are available for review at the Upper Snake Field Office of the BLM. Office hours are 7:45 a. m. to 4:30 p.m., Monday through Friday, except holidays.

Dated: April 20, 2005.
Carol McCoy Brown,
Field Manger, Upper Snake Field Office.

[FR Doc. 05-11529 Filed 6-9-05; 8:45 am]

BILLING CODE 4310-22-P